FEDERAL COMMUNICATIONS COMMISSION

47 CFR Part 73

[MB Docket No. 21-71; RM-11887; DA 21-601; FR ID 33925]

Television Broadcasting Services; Hannibal, Missouri; Correction

AGENCY: Federal Communications Commission.

ACTION: Final rule; correction.

SUMMARY: The Federal Communications Commission published a document in the Federal Register of June 16, 2021, concerning a petition for rulemaking filed by KHQA Licensee, LLC, licensee of KHQA-TV, channel 7, Hannibal, Missouri, requesting the substitution of UHF channel 22 for VHF channel 7 in the DTV Table of Allotments. The document contained the incorrect call sign of the licensee. The document also contained an incomplete email address of the contact person.

DATES: June 25, 2021.

FOR FURTHER INFORMATION CONTACT: Joyce Bernstein, Media Bureau, at (202) 418-1647 or Joyce.Bernstein@fcc.gov.

SUPPLEMENTARY INFORMATION:

Corrections

In FR Doc. 2021-12049, published in the Federal Register of June 16, 2021, appearing on page 31954, the following corrections are made:

1. On page 31954, in the third column, correct the SUMMARY caption to read:

SUMMARY: On March 7, 2021, the Media Bureau, Video Division (Bureau) issued a Notice of Proposed Rulemaking in response to a petition for rulemaking filed by KHQA Licensee, LLC (Licensee), the licensee of KHQA-TV, channel 7 (CBS), Hannibal, Missouri, requesting the substitution of channel 22 for channel 7 at Hannibal in the DTV Table of Allotments. For the reasons set forth in the Report and Order referenced below, the Bureau amends FCC regulations to substitute channel 22 for channel 7 at Hannibal.

2. On page 31955, in the first column, correct the FOR FURTHER INFORMATION CONTACT caption to read:

FOR FURTHER INFORMATION CONTACT: Joyce Bernstein, Media Bureau, at (202) 418-1647 or Joyce.Bernstein@fcc.gov.

Dated: June 17, 2021.
Thomas Horan,
Chief of Staff, Media Bureau.

[FR Doc. 2021-13561 Filed 6-24-21; 8:45 am]

BILLING CODE 6712-01-P